DEPARTMENT OF JUSTICE

Notice of Lodging of a Consent Decree Under the Clean Water Act

Notice is hereby given that on August 4, 2011, a proposed Consent Decree in United States, State of Missouri, and the Missouri Coalition for the Environment Foundation v. Metropolitan St. Louis Sewer District, No. 4:07-CV-01120, was lodged with the United States District Court for the Eastern District of Missouri.

In this action the United States sought civil penalties and injunctive relief for violations of the Clean Water Act (“CWA”), 33 U.S.C. 1251, et seq., in connection with the Metropolitan St. Louis Sewer District's (“MSD's”) operation of its sewer system in the City of St. Louis and St. Louis County, Missouri. The Complaint alleged that MSD's discharges of raw sewage from its sanitary sewer system—discharges that often are referred to as Sanitary Sewer Overflows or “SSOs”—and from MSD's combined storm water and sanitary sewer system—discharges that often are referred to as Combined Sewer Overflows or “CSOs”—violate MSD's National Pollutant Discharge Elimination System (“NPDES”) permits and Section 301 of the CWA, 33 U.S.C. 1311. The Complaint also alleged that the chronic and repeated backups of raw sewage into homes, yards, playgrounds, parks, and streets from MSD's sewer system pose an “imminent and substantial endangerment” to human health under Section 504(a) of the CWA 33 U.S.C. 1364(a). The Missouri Coalition for the Environment Foundation moved to intervene as a co-plaintiff in the federal action, and when its motion was granted by the Court, filed its Complaint in Intervention, alleging similar CWA claims against MSD.

The proposed Consent Decree will resolve the United States' CWA claims. Under the proposed Consent Decree, MSD will be required to implement comprehensive injunctive relief to expand and rehabilitate both its combined sewer system and its sanitary sewer system to reduce or eliminate unlawful SSOs and CSOs into various rivers and streams, as well as discharges to basements and from manholes or other discharge points in the St. Louis area. This injunctive relief will be performed over a 23-year period at a project cost of $4.7 billion. MSD will pay a total civil penalty of $1.2 million to the United States, and spend $1.6 million to carry out a program that will enable low income residents to elect to close their septic tanks and connect to the public sewer or to replace leaking private sewer lines. The consent decree also contains provisions pertaining to the claims of the Missouri Coalition for the Environment Foundation against MSD. The proposed Consent Decree has been signed by the United States, the Missouri Coalition for the Environment Foundation, and MSD.

For thirty (30) days after the date of this publication, the Department of Justice will receive comments relating to the proposed Consent Decree. Comments should be addressed to the Assistant Attorney General, Environment and Natural Resources Division, and either e-mailed to pubcomment-ees.enrd@usdoj.gov or mailed to P.O. Box 7611, U.S. Department of Justice, Washington, DC 20044-7611. The comments should refer to United States, et al. v. Metropolitan St. Louis Sewer District, D.J. Ref. 90-5-1-1-08111.

During the public comment period, the proposed Consent Decree may be examined on the Department of Justice Web site, http://www.usdoj.gov/enrd/Consent_Decrees.html. A copy of the proposed consent decree may be obtained by mailing a request to the Consent Decree Library, P.O. Box 7611, U.S. Department of Justice, Washington, DC 20044-7611. When requesting a copy by mail, please enclose a check payable to the U.S. Treasury in the amount of $29.25 (25 cents per page reproduction cost). A copy may also be obtained by e-mailing or faxing a request to Tonia Fleetwood, tonia.fleetwood@usdoj.gov, fax number (202) 514-0097, phone confirmation number (202) 514-1547, and mailing a check for the reproduction cost to the Consent Decree Library.

Robert E. Maher, Jr.,
Assistant Section Chief, Environmental Enforcement Section, Environment and Natural Resources Division.

[FR Doc. 2011-20321 Filed 8-9-11; 8:45 am]

BILLING CODE 4410-15-P